DEPARTMENT OF COMMERCE

International Trade Administration

[A-552-816]

Welded Stainless Pressure Pipe From the Socialist Republic of Vietnam: Final Determination of Sales at Less Than Fair Value

AGENCY: Enforcement and Compliance, International Trade Administration, Department of Commerce.

SUMMARY: The Department of Commerce (“Department”) determines that welded stainless pressure pipe (“WSPP”) from the Socialist Republic of Vietnam (“Vietnam”) is being, or is likely to be, sold in the United States at less than fair value (“LTFV”), as provided in section 735 of the Tariff Act of 1930, as amended (“the Act”). The final weighted-average dumping margins of sales at LTFV are shown in the “Final Determination” section of this notice.

DATES: Effective Date: May 30, 2014.

FOR FURTHER INFORMATION CONTACT: Lilit Astvatsatrian or Erin Kearney, AD/CVD Operations, Office IV, Enforcement and Compliance, International Trade Administration, U.S. Department of Commerce, 14th Street and Constitution Avenue NW., Washington, DC 20230; telephone: (202) 482-6412 or (202) 482-0167, respectively.

SUPPLEMENTARY INFORMATION:

Background

The Department published its Preliminary Determination on January 7, 2014.¹ On March 20, 2014, we issued a post-preliminary analysis on the Vietnam-wide entity rate.² On March 27, 2014, we received case briefs from Bristol Metals, LLC, Felker Brothers Corp., and Outokumpu Stainless Pipe, Inc. (“Petitioners”) and Sonha International Corporation (“Sonha”).³ On March 31, 2014, we rejected Petitioners' case brief because it contained untimely filed new factual information. On April 1, 2014, we received a refiled case brief from Petitioners, as requested by the Department.⁴ On April 3, 2014, we received rebuttal briefs from Petitioners and Sonha.⁵ Based on an analysis of the comments received, the Department has made changes from the Preliminary Determination.

¹ See Welded Stainless Pressure Pipe from the Socialist Republic of Vietnam: Preliminary Determination of Sales at Less Than Fair Value and Postponement of Final Determination, 79 FR 806 (January 7, 2014) (“Preliminary Determination”).

² See Memorandum from Abdelali Elouaradia, Office Director, AD/CVD Operations, Office IV, to Paul Piquado, Assistant Secretary for Enforcement and Compliance, “Welded Stainless Pressure Pipe from the Socialist Republic of Vietnam: Post-Preliminary Analysis on the Vietnam-Wide Entity Rate,” dated March 20, 2014 (“Post-Preliminary Analysis”).

³ See submission from Sonha, “Sonha's Direct Case Brief: Antidumping Duty Investigation of Welded Stainless Pressure Pipe from Vietnam (A-552-816),” dated March 27, 2014.

⁴ See submission from Petitioners, “Welded Stainless Pressure Pipe from Vietnam: Petitioners' Case Brief,” dated April 1, 2014.

⁵ See submission from Petitioners, “Welded Stainless Pressure Pipe from Vietnam: Petitioners' Rebuttal Brief,” dated April 3, 2014; see also submission from Sonha, “Sonha's Rebuttal Case Brief: Antidumping Duty Investigation of Welded Stainless Pressure Pipe from Vietnam (A-552-816),” dated April 3, 2014.

Period of Investigation

The period of investigation (“POI”) is October 1, 2012, through March 31, 2013.

Scope of the Investigation

The merchandise covered by this investigation is circular welded austenitic stainless pressure pipe not greater than 14 inches in outside diameter. For purposes of this investigation, references to size are in nominal inches and include all products within tolerances allowed by pipe specifications. This merchandise includes, but is not limited to, the American Society for Testing and Materials (ASTM) A-312 or ASTM A-778 specifications, or comparable domestic or foreign specifications. ASTM A-358 products are only included when they are produced to meet ASTM A-312 or ASTM A-778 specifications, or comparable domestic or foreign specifications.

Excluded from the scope are: (1) Welded stainless mechanical tubing, meeting ASTM A-554 or comparable domestic or foreign specifications; (2) boiler, heat exchanger, superheater, refining furnace, feedwater heater, and condenser tubing, meeting ASTM A-249, ASTM A-688 or comparable domestic or foreign specifications; and (3) specialized tubing, meeting ASTM A269, ASTM A-270 or comparable domestic or foreign specifications.

The subject imports are normally classified in subheadings 7306.40.5005, 7306.40.5040, 7306.40.5062, 7306.40.5064, and 7306.40.5085 of the Harmonized Tariff Schedule of the United States (HTSUS). They may also enter under HTSUS subheadings 7306.40.1010, 7306.40.1015, 7306.40.5042, 7306.40.5044, 7306.40.5080, and 7306.40.5090. The HTSUS subheadings are provided for convenience and customs purposes only; the written description of the scope of this investigation is dispositive.

Verification

As provided in section 782(i) of the Act, the Department verified the information submitted by Sonha for use in the final determination. The Department used standard verification procedures, including examination of relevant accounting and production records and original source documents provided by the respondent.⁶

⁶ See Memorandum to the File from Lilit Astvatsatrian and Erin Kearney, Senior International Trade Compliance Analysts, AD/CVD Operations, Office IV, “Verification of the Sales and Factors Responses of Sonha International Corporation in the Antidumping Investigation of Welded Stainless Steel Pipe from the Socialist Republic of Vietnam,” dated February 26, 2014 (“Verification Report”).

Analysis of Comments Received

All issues raised in the case and rebuttal briefs for this investigation are addressed in the Issues and Decision Memorandum, which is dated concurrently with and hereby adopted by this notice.⁷ A list of the issues which parties have raised and to which we have responded in the Issues and Decision Memorandum is attached to this notice as an Appendix. The Issues and Decision Memorandum is a public document and is on file electronically via Enforcement and Compliance's Antidumping and Countervailing Duty Centralized Electronic Service System (“IA ACCESS”). Access to IA ACCESS is available to registered users at http://iaaccess.trade.gov; the Issues and Decision Memorandum is available to all parties in the Central Records Unit, room 7046 of the main Department of Commerce building. In addition, a complete version of the Issues and Decision Memorandum can be accessed directly on the Internet at http://www.trade.gov/enforcement. The signed version and electronic version of the Issues and Decision Memorandum are identical in content.

⁷ See Memorandum from Christian Marsh, Deputy Assistant Secretary for Antidumping and Countervailing Duty Operations, to Paul Piquado, Assistant Secretary for Enforcement and Compliance, “Issues and Decision Memorandum for the Final Determination of the Antidumping Duty Investigation of Welded Stainless Pressure Pipe from the Socialist Republic of Vietnam,” dated May 22, 2014 (“Issues and Decision Memorandum”).

Changes Since the Preliminary Determination

• We valued electricity using the electricity price data for large industries, as published by the Central Electricity Authority in its publication, “Electricity Tariff & Duty and Average Rates of Electricity Supply in India.” ⁸

⁸ See Memorandum to the File, “Welded Stainless Pressure Pipe from the Socialist Republic of Vietnam: Analysis of the Final Determination Margin Calculation for Sonha International Corporation, dated May 22, 2014 (“Final Analysis Memorandum”), at page 2 and Attachment 3; see also Issues and Decision Memorandum at Comment 3.

• We adjusted Sonha's brokerage and handling surrogate value by Sonha's own average shipment weight for a 20-foot container.⁹

⁹ See Final Analysis Memorandum at page 2 and Attachments 3-4 and see also Issues and Decision Memorandum at Comment 5.

• We used Sonha's revised factors of production (“FOP”) database which reflects changes in the consumption rates of certain packing materials and supplier distances as a result of minor corrections and findings at the verification.¹⁰

¹⁰ See Final Analysis Memorandum at page 1 and Attachment 1; see also Verification Report at pages 2-3.

• We revised the market-economy purchase prices for certain FOPs as a result of minor corrections at the verification.¹¹

¹¹ See Final Analysis Memorandum at page 2 and Attachment 3.

• We revised the Vietnam-wide rate to be the same as Sonha's calculated margin.¹²

¹² See Post-Preliminary Analysis.

Final Determination

The Department determines that the following weighted-average dumping margins exist:

Exporter | Producer | Weighted-average dumping margin
Sonha International Corporation | Sonha International Corporation | 16.25
Mejonson Industrial Vietnam Co., Ltd | Mejonson Industrial Vietnam Co., Ltd | 16.25
Vietnam-Wide Entity |  | 16.25

Disclosure

The Department intends to disclose calculations performed for this final determination to the parties within five days of the date of publication of this notice in accordance with 19 CFR 351.224(b).

Continuation of Suspension of Liquidation

In accordance with section 735(c)(1)(B) of the Act, the Department will instruct U.S. Customs and Border Protection (“CBP”) to continue to suspend liquidation of all appropriate entries of WSPP from Vietnam as described in the “Scope of the Investigation” section, which were entered, or withdrawn from warehouse, for consumption on or after January 7, 2014, the date of publication of the Preliminary Determination in the Federal Register. CBP shall require a cash deposit equal to the estimated amount by which the normal value exceeds the U.S. price as shown above. These instructions suspending liquidation will remain in effect until further notice.

International Trade Commission (“ITC”) Notification

In accordance with section 735(d) of the Act, we will notify the ITC of our final affirmative determination of sales at LTFV. Because the final determination in this proceeding is affirmative, in accordance with section 735(b)(2) of the Act, the ITC will make its final determination as to whether the domestic industry in the United States is materially injured, or threatened with material injury, by reason of imports of WSPP from Vietnam no later than 45 days after our final determination. If the ITC determines that material injury or threat of material injury does not exist, the proceeding will be terminated and all securities posted will be refunded or canceled. If the ITC determines that such injury does exist, the Department will issue an antidumping duty order directing CBP to assess antidumping duties on all imports of the merchandise under investigation entered, or withdrawn from warehouse, for consumption on or after the effective date of the suspension of liquidation.

Notification Regarding Administrative Protective Orders (“APO”)

This notice also serves as a final reminder to the parties subject to APO of their responsibility concerning the disposition of proprietary information disclosed under APO in accordance with 19 CFR 351.305. Timely written notification of return or destruction of APO materials or conversion to judicial protective order is hereby requested. Failure to comply with the regulations and the terms of an APO is a sanctionable violation.

This determination and notice are issued and published in accordance with sections 735(d) and 777(i)(1) of the Act.

Dated: May 22, 2014.
Paul Piquado,
Assistant Secretary for Enforcement and Compliance.

Appendix—Issues and Decision Memorandum

Summary

Case Issues

Scope of the Investigation

Discussion of the Issues

Comment 1: Financial Ratios

Comment 2: Date of Sale

Comment 3: Electricity

Comment 4: Valuation of Argon and Hydrogen

Comment 5: Adjustment of Brokerage and Handling Charges

Comment 6: Withdrawal of the Regulatory Provisions Governing Targeted Dumping in Less-Than-Fair-Value Investigations

Comment 7: Differential Pricing Analysis

Recommendation

Attachment: Acronym and Abbreviation Table

[FR Doc. 2014-12587 Filed 5-29-14; 8:45 am]

BILLING CODE 3510-DS-P